DEPARTMENT OF COMMERCE

National Oceanic and Atmospheric Administration

RIN 0648-BD33

Fisheries of the Caribbean, Gulf of Mexico, and South Atlantic; Comprehensive Fishery Management Plan for the Exclusive Economic Zone of St. Croix

AGENCY: National Marine Fisheries Service (NMFS), National Oceanic and Atmospheric Administration (NOAA), Commerce.

ACTION: Supplemental Notice of intent (NOI) to prepare a draft environmental impact statement (DEIS); scoping meetings; request for comments.

SUMMARY: NMFS, Southeast Region, in collaboration with the Caribbean Fishery Management Council (Council), intends to prepare a DEIS to describe and analyze a range of management alternatives for management actions to be considered when developing and establishing a Comprehensive Fishery Management Plan (FMP) for the exclusive economic zone (EEZ) of St. Croix. The purpose of this Supplemental NOI is to inform the public of upcoming opportunities to provide comments on the actions to be addressed in the DEIS, as specified in this notice.

DATES: Written comments on the scope of issues to be addressed in the DEIS must be received by NMFS by April 9, 2014. A second round of scoping meetings will be held in April 2014. For specific dates and times, see SUPPLEMENTARY INFORMATION, under the heading, “Scoping Meetings”.

ADDRESSES: You may submit comments on the DEIS, identified by “NOAA-NMFS-2013-0092”, by any of the following methods:

• Electronic Submission: Submit all electronic public comments via the Federal e-Rulemaking Portal. Go to www.regulations.gov/#!docketDetail;D=NOAA-NMFS-2013-0092, click the “Comment Now!” icon, complete the required fields, and enter or attach your comments.

• Mail: Submit written comments to Miguel Lugo, Southeast Regional Office, NMFS, 263 13th Avenue South, St. Petersburg, FL 33701, or to the Caribbean Fishery Management Council, 270 Muñoz Rivera Avenue, Suite 401, San Juan, Puerto Rico 00918.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous). Attachments to electronic comments will be accepted in Microsoft Word, Excel, or Adobe PDF file formats only.

Electronic copies of the scoping document may be obtained from the Southeast Regional Office Web site at http://sero.nmfs.noaa.gov/sustainable_fisheries/caribbean/island_based/index.html.

The scoping meetings will be held in Puerto Rico and in the U.S. Virgin Islands. For specific locations, see SUPPLEMENTARY INFORMATION, under the heading, “Scoping Meetings”.

FOR FURTHER INFORMATION CONTACT: Miguel Lugo, phone 727-824-5305, email Miguel.Lugo@noaa.gov; or Graciela García-Moliner, phone 787-766-5927, email Graciela.Garcia-Moliner@noaa.gov.

SUPPLEMENTARY INFORMATION: Currently, the Council manages Federal fisheries in the U.S. Caribbean under four species-based FMPs: The Spiny Lobster FMP of Puerto Rico and the U.S. Virgin Islands (Spiny Lobster FMP), the Reef Fish FMP of Puerto Rico and the U.S. Virgin Islands (Reef Fish FMP), the Corals and Reef Associated Plants and Invertebrates FMP of Puerto Rico and the U.S. Virgin Islands (Coral FMP), and the FMP for the Queen Conch Resources of Puerto Rico and the U.S. Virgin Islands (Queen Conch FMP). The fishers, fishing community representatives, and the local governments of Puerto Rico and the U.S. Virgin Islands (USVI) have frequently requested the Council consider the differences between the islands or island groups when addressing fisheries management in the U.S. Caribbean to recognize the unique attributes of each U.S. Caribbean island. By developing island-based FMPs, NMFS and the Council would better account for differences among the U.S. Caribbean islands with respect to culture, markets, gear, seafood preferences, and the ecological impacts that result from these differences.

At its 145th meeting, held on March 26-27, 2013, the Council decided to transition from species-based fisheries management to island-based fisheries management. If approved, a comprehensive FMP for fisheries management off St. Croix, in conjunction with similar comprehensive FMPs for fisheries management off Puerto Rico and off St. Thomas/St. John, would replace the existing species-based FMPs.

Also at its March meeting, the Council voted to hold scoping meetings in July 2013 to receive public feedback on possible actions and alternatives to consider during the development of the St. Croix FMP, the Puerto Rico FMP, and the St. Thomas/St. John FMP. Based on public feedback received at the July scoping meetings, the Council decided at its 148th Meeting, held December 11-12, 2013, to hold a second round of scoping meetings to present a more robust set of actions and alternatives. The Council could develop the comprehensive FMPs without significant changes to current Federal fisheries management. For example, the 2010 Caribbean Annual Catch Limit (ACL) Amendment (76 FR 82404, December 30, 2011) and the 2011 Caribbean ACL Amendment (76 FR 82414, December 30, 2011) established ACLs by island or island group with specific ACLs for the St. Croix EEZ. The spatial and species-based attributes of these St. Croix ACLs, likely, would not change when developing the new FMP.

However, a re-arrangement from species-based FMPs to island-based FMPs also provides an opportunity for the Council to update management regulations that are outdated or do not reflect the current state of issues in the St. Croix EEZ. In the comprehensive St. Croix FMP, the Council is considering management measures to modify the composition of the fishery management units (FMUs) by adding or removing species, establishing management reference points for any new species added into the FMUs, and modifying or establishing additional management measures. If regulations are to be changed, additional analyses to assess the impacts to the social, biological, economic, ecological, and administrative environments will be required.

To implement the proposed provisions of this new FMP, the Council will develop a DEIS for the comprehensive St. Croix FMP that describes and analyzes the proposed management alternatives. The new FMP will provide the best available scientific information regarding the management of St. Croix EEZ fisheries, within the context of Federal fisheries management in the U.S. Caribbean. Those alternatives will include, but are not limited to, a “no action” alternative regarding the continuation of species-based Federal fishery management in St. Croix, as well as alternatives to revise the management of U.S. Caribbean fisheries when developing the comprehensive St. Croix FMP. In addition, there will be alternatives to modify the current FMUs including, but not limited to, the “no action” alternative. Other actions could be included in the DEIS in response to public feedback during the scoping process.

In accordance with NOAA's Administrative Order NAO 216-6, Section 5.02(c), the Council and NMFS have identified preliminary environmental issues as a means to initiate discussion for scoping purposes only. These preliminary issues may not represent the full range of issues that eventually will be evaluated in the DEIS.

After the DEIS associated with the development of the Comprehensive St. Croix FMP is completed, it will be filed with the Environmental Protection Agency (EPA). After filing, the EPA will publish a notice of availability of the DEIS for public comment in the Federal Register. The DEIS will have a 45-day comment period. This procedure is pursuant to regulations issued by the Council on Environmental Quality (CEQ) for implementing the procedural provisions of the National Environmental Policy Act (NEPA; 40 CFR parts 1500-1508) and to NOAA's Administrative Order 216-6 regarding NOAA's compliance with NEPA and the CEQ regulations.

The Council and NMFS will consider public comments received on the DEIS in developing the final environmental impact statement (FEIS), and before voting to submit the FMP to NMFS for Secretarial review, approval, and implementation.

NMFS will announce in the Federal Register the availability of the FMP for public review during the Secretarial review period. During Secretarial review, NMFS will also file the FEIS with the EPA for a final 30-day public comment period. This comment period will be concurrent with the Secretarial review period and will end prior to final agency action to approve, disapprove, or partially approve the FMP.

NMFS will announce in the Federal Register, all public comment periods on the FMP, its proposed implementing regulations, and the associated FEIS. NMFS will consider all public comments received during the Secretarial review period, whether they are on the FMP, the proposed regulations, or the FEIS, prior to final agency action.

Scoping Meetings

All scoping meetings are scheduled for the weeks of April 7 and 14, 2014 (start times and locations are specified below). Participants at the scoping meetings may comment on any of the island-based FMPs (the Puerto Rico FMP, the St. Croix FMP, and the St. Thomas/St. John FMP) during any of the scoping meetings. The meetings will be physically accessible to people with disabilities. Request for sign language interpretation or other auxiliary aids should be directed to the Council (see ADDRESSES).

Supplemental Island-Based Scoping Meetings in Puerto Rico

• April 7, 2014, 7 p.m. to 10 p.m.—at the Parador and Restaurant El Buen Café, #381, Rd. #2, Hatillo, Puerto Rico.

• April 8, 2014, 7 p.m. to 10 p.m.—at the Mayaguez Holiday Inn, 2701 Hostos Avenue, Mayaguez, Puerto Rico.

• April 9, 2014, 7 p.m. to 10 p.m.—at the Asociación de Pescadores Unidos de Playa Húcares, Carr. #3, Km. 65.9, Naguabo, Puerto Rico.

• April 10, 2014, 7 p.m. to 10 p.m.—at the DoubleTree by Hilton San Juan, De Diego #105 Avenue, San Juan, Puerto Rico.

• April 14, 2014, 7 p.m. to 10 p.m.—at the Holiday Inn Ponce & Tropical Casino, 3315 Ponce By Pass, Ponce, Puerto Rico.

Supplemental Island-Based Scoping Meetings in the USVI

• April 7, 2014, 7 p.m. to 10 p.m.—at the Windward Passage Hotel, Charlotte Amalie, St. Thomas, U.S. Virgin Islands.

• April 8, 2014, 7 p.m. to 10 p.m.—at the Buccaneer Hotel, Estate Shoys, Christiansted, St. Croix, U.S. Virgin Islands.

Authority: 16 U.S.C. 1801 et seq.

Dated: March 4, 2014.
Emily H. Menashes,
Acting Director, Office of Sustainable Fisheries, National Marine Fisheries Service.

[FR Doc. 2014-05151 Filed 3-7-14; 8:45 am]

BILLING CODE 3510-22-P